DEPARTMENT OF THE INTERIOR

Bureau of Land Management

[LLAZ920000 16X L51010000.ER0000 LVRWA16A3240]

Notice of Intent To Prepare an Environmental Impact Statement for the Proposed Ten West Link 500-Kilovolt Transmission Line Project and Potential Amendment to the Yuma Field Office Resource Management Plan in Maricopa and La Paz Counties, AZ, and Riverside County, CA

AGENCY: Bureau of Land Management, Interior.

ACTION: Notice.

SUMMARY: In compliance with the National Environmental Policy Act of 1969 (NEPA), as amended, and the Federal Land Policy and Management Act of 1976, as amended, the Bureau of Land Management (BLM), Arizona State Office, Phoenix, Arizona, with the possibility of Western Area Power Administration serving as a co-lead agency, intends to prepare an environmental impact statement (EIS) for the proposed Ten West Link 500-kilovolt (kV) Transmission Line Project (Project) and potential amendment to the Yuma Field Office Resource Management Plan pursuant to the BLM's land use planning regulations. By this notice, the BLM is announcing the beginning of the scoping process to solicit public comments and identify issues on the proposed transmission line and potential plan amendment.

DATES: Comments on issues may be submitted in writing until May 9, 2016. The date(s) and location(s) of any scoping meetings will be announced at least 15 days in advance through local media, newspapers, and the BLM Web site at: http://www.blm.gov/az/st/en.html. In order to be included in the Draft EIS, all comments must be received prior to the close of the scoping period or 15 days after the last public meeting, whichever is later. The BLM will provide additional opportunities for public participation upon publication of the Draft EIS.

ADDRESSES: You may submit comments related to the Project by any of the following methods:

• Web site: http://www.blm.gov/az/st/en.html.

• Email: TenWestLink@blm.gov.

• Fax: 602-417-9452,

• Mail: BLM, Arizona State Office, Attention: Eddie Arreola/Ten West Link Project, One North Central Avenue, Suite 800, Phoenix, AZ 85004.

Documents pertinent to this proposal may be examined at the Arizona State Office.

FOR FURTHER INFORMATION CONTACT: Eddie Arreola, Project Manager, at telephone 602-417-9505; address: BLM, Arizona State Office, One North Central Avenue, Suite 800, Phoenix, AZ 85004; email: earreola@blm.gov. People who use a telecommunications device for the deaf (TDD) may call the Federal Information Relay Service (FIRS) at 800-877-8339 during normal business hours to contact the BLM Project Manager listed above. The FIRS is available 24 hours a day, 7 days a week, to leave a message or question for the above individual. You will receive a reply during normal business hours.

SUPPLEMENTARY INFORMATION: The applicant, DCR Transmission, LLC, has submitted an application to the BLM for a right-of-way (ROW) to construct, operate, maintain, and decommission a single-circuit 500-kV transmission line. Authorization of the proposed transmission line may require an amendment to the Yuma Field Office Resource Management Plan (January 2010) to change visual resource management classifications and to possibly change or reclassify designated utility corridors. The proposed transmission line may require other land use plan amendments for the Project, including the Lower Sonoran, Bradshaw-Harquahala, Lake Havasu Resource Management Plans and the California Desert Conservation Area Plan, depending on newly proposed alternatives during scoping and during the analysis. The Project would provide a connection between the Arizona Public Service Company's Delaney Substation in Tonopah, Arizona, and the Southern California Edison Company's (SCE) Colorado River Substation in Blythe, California. The project purpose is to strengthen the electrical grid and improve reliability. The Project area involves approximately 83 miles of public lands along a route spanning roughly 114 miles. Approximately 97 miles is in Arizona and 17 miles is in California. The Project would largely follow the existing SCE Devers-Palo Verde 500-kV No.1 (DPV1) transmission line in an established utility corridor. The transmission line may be supported by a combination of self-supporting H-frame structures and steel lattice structures. Any final decision on a specific type of structure will be based on topography, structural requirements, economics, the environment, and other applicable considerations. The structures are anticipated to be constructed of guyed galvanized steel with a height ranging from 100 to 190 feet, and a width of approximately 100 feet. The distance between each structure would depend on site-specific characteristics, but is expected to be 400 to 2,200 feet with an average span length of approximately 1,600 feet.

The Project would involve additional facilities, including the construction of a series compensation substation parallel to the existing compensation substation located in Vicksburg, Arizona. To the extent possible, existing access roads for the DPV1 transmission line would be used for construction and maintenance. For a 2.8-mile segment of the proposed route, DCR Transmission would need an agreement with SCE to use the vacant circuit positions on SCE's existing double-circuit towers in the Copper Bottom Pass area. The requested ROW width on public lands is 200 feet.

The purpose of the public scoping process is to identify relevant issues that will influence the scope of the environmental analysis, including potential alternatives, and guide the process for developing the EIS. At present, the BLM has identified the following preliminary issues: Visual resource management classifications that would not allow a 500kV transmission line, possible route changes outside the designated corridors, potential interference with the U.S. Army's Yuma Proving Ground; cultural resources; Native American cultural concerns; social and economic effects; potential public health and safety; wildlife (including migratory birds); special status species; and recreation. The analysis will also consider mitigation at a regional scale for those resources that warrant mitigation offsite.

The BLM will use the NEPA public participation requirements to assist the agency in satisfying the public involvement requirements under Section 106 of the National Historic Preservation Act (NHPA) (54 U.S.C. 306108) pursuant to 36 CFR 800.2(d)(3). The information about historic and cultural resources within the area potentially affected by the Project will assist the BLM in identifying and evaluating impacts to such resources in the context of both the NEPA and Section 106 of the NHPA.

The BLM will consult with Indian tribes on a government-to-government basis in accordance with Executive Order 13175 and other policies. Tribal concerns, including impacts on Indian trust assets and potential impacts to cultural resources, will be given due consideration.

Before including your address, phone number, email address, or other personal identifying information in your comment, you should be aware that your entire comment—including your personal identifying information—may be made publicly available at any time. While you can ask us in your comment to withhold your personal identifying information from public review, we cannot guarantee that we will be able to do so.

Federal, State, and local agencies, along with tribes and other stakeholders that may be interested in or affected by the Project are invited to participate in the scoping process. If eligible, they may request or be requested by the BLM to participate in the development of the environmental analysis as a cooperating agency.

Authority: 40 CFR 1501.7.

Raymond Suazo,
Arizona State Director.

[FR Doc. 2016-06626 Filed 3-22-16; 8:45 am]

BILLING CODE 4310-32-P